DEPARTMENT OF HEALTH AND HUMAN SERVICES

Centers for Disease Control and Prevention

[30Day-25-1046]

Agency Forms Undergoing Paperwork Reduction Act Review

In accordance with the Paperwork Reduction Act of 1995, the Centers for Disease Control and Prevention (CDC) has submitted the information collection request titled “National Breast and Cervical Cancer Early Detection Program (NBCCEDP) Monitoring Activities” to the Office of Management and Budget (OMB) for review and approval. CDC previously published a “Proposed Data Collection Submitted for Public Comment and Recommendations” notice on October 1, 2024 to obtain comments from the public and affected agencies. CDC received five non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Breast and Cervical Cancer Early Detection Program (NBCCEDP) Monitoring Activities (OMB Control No. 0920-1046, Exp. 3/31/2025)—Revision—National Center for Chronic Disease Prevention and Health Promotion (NCCDPHP), Centers for Disease Control and Prevention (CDC).

Background and Brief Description

CDC is requesting a Revision of the information collection (OMB Control No. 0920-1046), titled National Breast and Cervical Cancer Early Detection Program (NBCCEDP) Monitoring Activities. Information collection consists of an annual NBCCEDP survey, baseline and annual clinic-level data collection, a quarterly program update (QPU) tool, a service delivery projection worksheet, and minimum data elements (MDEs). CDC proposes revisions to the Annual NBCCEDP Survey, clinic-level data collection tool and quarterly program update (QPU), and continued use of the service delivery projection worksheet and MDEs with no changes. The number of respondents will increase from 70 to 71 and the total estimated annualized burden will decrease from 1,220 hours to 1,162 hours.

Breast and cervical cancers are prevalent among U.S. women. Evidence shows that deaths from both breast and cervical cancers can be avoided by increasing screening services—mammography, pap, and human papillomavirus (HPV) tests—among women. However, screening is typically underutilized among women who are under- or uninsured, have no regular source of healthcare, or who recently immigrated to the U.S.

To improve access to cancer screening, Congress passed the Breast and Cervical Cancer Mortality Prevention Act of 1990 (Pub. L. 106-354), which directed CDC to create the National Breast and Cervical Cancer Early Detection Program (NBCCEDP). The NBCCEDP currently provides funding to 71 recipients under “Cancer Prevention and Control Programs for State, Territorial, and Tribal Organizations (DP22-2202).” The purpose of NBCCEDP is to increase breast and cervical cancer screening rates among women residing within defined geographical locations (as determined by the funded program) who are at or below 250% of the federal poverty level; aged 50-75 years for breast cancer services, and aged 21-64 years for cervical cancer services; and are runder- or uninsured.

CDC proposes revisions to three of the five information collections:

• Annual NBCCEDP Survey—submitted to CDC annually and collects program-level information to monitor recipients' challenges, external funding sources, partnerships, and EBI implementation. The survey has been revised to add questions related to partnership activities and recipients' requirements for patients' payments towards screening services, and remove COVID-19-related questions.

• Clinic-level data collection—submitted to CDC at baseline and annually to assess health system, clinic, and patient population characteristics; monitoring and quality improvement activities; EBI implementation; and baseline or annual screening rates. The tool has been revised to remove COVID-19-related variables and update response options for measures used to report breast and cervical cancer screening rates.

• QPU—submitted to CDC four times per year to monitor award spending, service delivery, staff vacancies, program challenges and successes, and technical assistance (TA) needs. This instrument has been revised to include two optional open-ended items for recipients to provide context to reported service delivery and spending data if needed.

CDC proposes continued use of the remaining two information collections—the Service Delivery Project Worksheet and the MDEs—which have not been changed.

To maximize consistency in our routine data collections for the current NBCCEDP funding cycle, CDC has not revised NBCCEDP information collections to align with the Department of Health and Human Services (HHS)' current best practices for demographic questions related to sexual orientation and gender identity (SOGI) and race and ethnicity (R/E) at this time. However, CDC plans to revise information collections that include demographic items to align with HHS' SOGI and R/E guidelines for the next funding cycle beginning in 2027. The proposed modifications to the information collections will allow CDC to better gauge progress in meeting NBCCEDP program goals and monitor implementation activities, evaluate outcomes, and identify awardee technical assistance needs. In addition, findings will inform program improvement and help identify successful activities that need to be maintained, replicated, or expanded.

CDC requests OMB approval for three years and for an estimated 1,162 annual burden hours. Participation is required for NBCCEDP awardees. There are no costs to respondents other than their time.

Estimated Annualized Burden Hours
Type of respondent | Form name | Number of respondents | Number of responses per respondent | Average burden per response (in hrs)
NBCCEDP Recipients | Annual NBCCEDP Survey | 71 | 1 | 46/60
| NBCCEDP Clinic-level Information Collection Instrument—Breast | 71 | 6 | 40/60
| NBCCEDP Clinic-level Information Collection Instrument—Cervical | 71 | 6 | 40/60
| Quarterly Program Update | 71 | 4 | 32/60
| Service Delivery Projection Worksheet | 71 | 1 | 29/60
| MDEs | 71 | 2 | 150/60

Jeffrey M. Zirger,
Lead, Information Collection Review Office, Office of Public Health Ethics and Regulations, Office of Science, Centers for Disease Control and Prevention.

[FR Doc. 2025-00161 Filed 1-7-25; 8:45 am]

BILLING CODE 4163-18-P